DEPARTMENT OF COMMERCE

National Oceanic and Atmospheric Administration

50 CFR Part 679

[Docket No. 060216045-6045-01; I.D. 081506A]

Fisheries of the Exclusive Economic Zone Off Alaska; Reallocation of Pollock in the Bering Sea and Aleutian Islands

AGENCY: National Marine Fisheries Service (NMFS), National Oceanic and Atmospheric Administration (NOAA), Commerce.

ACTION: Temporary rule; reallocation.

SUMMARY: NMFS is reallocating the projected unused amounts of Community Development Quota (CDQ) and non-CDQ pollock from the Aleutian Islands subarea to the Bering Sea subarea and Bering Sea subarea pollock from the incidental catch allowance to the directed fisheries. These actions are necessary to provide opportunity for harvest of the 2006 total allowable catch (TAC) of pollock, consistent with the goals and objectives of the Fishery Management Plan for Groundfish of the Bering Sea and Aleutian Islands Management Area (FMP).

DATES: Effective August 16, 2006, through 2400 hrs, Alaska local time (A.l.t.), December 31, 2006.

FOR FURTHER INFORMATION CONTACT: Josh Keaton, 907-586-7228.

SUPPLEMENTARY INFORMATION: NMFS manages the groundfish fishery in the BSAI according to the FMP prepared by the North Pacific Fishery Management Council under authority of the Magnuson-Stevens Fishery Conservation and Management Act. Regulations governing fishing by U.S. vessels in accordance with the FMP appear at subpart H of 50 CFR part 600 and 50 CFR part 679.

In the Aleutian Islands subarea, the 2006 TAC of non-CDQ pollock is 9,500 metric tons (mt) and the CDQ pollock is 1,140 mt as established by the 2006 and 2007 final harvest specifications for groundfish in the BSAI (71 FR 10894, March 3, 2006) and the reallocation on March 3, 2006 (71 FR 11541, March 8, 2006).

As of August 10, 2006, the Administrator, Alaska Region, NMFS, (Regional Administrator) has determined that the following amounts of pollock in the Aleutian Islands subarea will not be harvested: 4,000 mt of non-CDQ pollock and 1,140 mt of CDQ pollock. Therefore, in accordance with § 679.20(a)(5)(iii)(B)(4), NMFS proportionally reallocates 4,000 mt of non-CDQ pollock and 1,140 mt of CDQ pollock from the Aleutian Islands subarea to the 2006 Bering Sea subarea B season allocations, as listed in Tables 3 and 10 of the 2006 and 2007 final harvest specifications for groundfish in the BSAI (71 FR 11541, March 8, 2006).

The harvest specifications for pollock in the Aleutian Islands subarea included in the harvest specifications for groundfish in the BSAI (71 FR 11541, March 8, 2006) are revised as follows: 5,500 mt to non-CDQ pollock and 0 mt to CDQ pollock.

The 2006 pollock incidental catch allowance in the BS was established as 44,967 mt by the 2006 and 2007 final harvest specifications for groundfish in the BSAI (71 FR 10894, March 3, 2006), in accordance with § 679.20(a)(5)(i)(A)(1) and the American Fisheries Act (AFA) (Public Law 105 277, Division C, Title II).

As of August 10, 2006, the Administrator, Alaska Region, NMFS, has determined that approximately 20,072 mt of pollock remain in the incidental catch allowance. Based on projected harvest rates of other groundfish species and the expected incidental catch of pollock in those fisheries, the Regional Administrator has determined that 14,000 mt of pollock specified in the incidental catch allowance will not be necessary as incidental catch. Therefore, NMFS is apportioning the projected unused amount, 14,000 mt, of pollock from the incidental catch allowance to the directed fishing allowances established pursuant to § 679.20(a)(5)(i)(A).

Pursuant to § 679.20(a)(5), Tables 3 and 10 of the 2006 and 2007 final harvest specifications for groundfish in the BSAI (71 FR 11541, March 8, 2006) are revised for 2006 non-CDQ pollock and CDQ pollock allocations consistent with this reallocation. This reallocation results in proportional adjustments to the 2006 B season non-CDQ pollock directed fishery allocation (DFA) established at § 679.20(a)(5).

TABLE 3—2006 AND 2007 ALLOCATIONS OF POLLOCK TACS TO THE DIRECTED POLLOCK FISHERIES AND TO THE CDQ DIRECTED FISHING ALLOWANCES (DFA)¹
[Amounts are in metric tons]
Area and sector | 2006 Allocations | 2006 A season¹: A season DFA | 2006 A season¹: SCA harvest limit² | 2006 B season¹: B season DFA | 2007 Allocations | 2007 A season¹: A season DFA | 2007 A season¹: SCA harvest limit² | 2007 B season¹: B season DFA
Bering Sea subarea | 1,496,700 | n/a | n/a | n/a | 1,500,000 | n/a | n/a | n/a
CDQ DFA | 150,400 | 60,160 | 41,793 | 90,240 | 149,670 | 59,868 | 41,908 | 89,802
ICA | 30,967 | n/a | n/a | n/a | 45,236 | n/a | n/a | n/a
AFA Inshore | 657,666 | 261,148 | 181,626 | 396,518 | 652,547 | 261,019 | 182,713 | 391,528
AFA Catcher/Processors³ | 526,133 | 208,918 | 145,301 | 317,215 | 522,038 | 208,815 | 146,171 | 313,223
Catch by C/Ps | 481,412 | 191,160 | n/a | 290,252 | 477,664 | 191,066 | n/a | 286,599
Catch by CVs³ | 44,721 | 17,758 | n/a | 26,963 | 44,373 | 17,749 | n/a | 26,624
Unlisted C/P Limit⁴ | 2,631 | 1,045 | n/a | 1,586 | 2,610 | 1,044 | n/a | 1,566
AFA Motherships | 131,533 | 52,230 | 36,325 | 79,304 | 130,509 | 52,204 | 36,543 | 78,306
Excessive Harvesting Limit⁵ | 256,503 | n/a | n/a | n/a | 228,391 | n/a | n/a | n/a
Excessive Processing Limit⁶ | 439,720 | n/a | n/a | n/a | 391,528 | n/a | n/a | n/a
Total Bering Sea DFA | 1,465,733 | 582,456 | 405,045 | 883,277 | 1,454,764 | 581,906 | 407,334 | 872,858
Aleutian Islands subarea¹ | 6,160 | n/a | n/a | n/a | 19,000 | n/a | n/a | n/a
CDQ DFA | 0 | n/a | n/a | 0 | 1,900 | 760 | n/a | 1,140
ICA | 1,800 | 1,200 | n/a | 600 | 1,800 | 1,200 | n/a | 600
Aleut Corporation | 5,500 | 4,000 | n/a | 1,500 | 15,300 | 9,800 | n/a | 5,500
Bogoslof District ICA⁷ | 10 | n/a | n/a | n/a | 10 | n/a | n/a | n/a
¹Pursuant to § 679.20(a)(5)(i)(A), the Bering Sea subarea pollock, after subtraction for the CDQ DFA - 10 percent and the ICA - 3.35 percent, is allocated as a DFA as follows: inshore component - 50 percent, catcher/processor component - 40 percent, and mothership component - 10 percent. In the Bering Sea subarea, the A season, January 20 - June 10, is allocated 40 percent of the DFA and the B season, June 10 - November 1, is allocated 60 percent of the DFA. Pursuant to § 679.20(a)(5)(iii)(B)(2)(i) and (ii), the annual AI pollock TAC, after subtracting first for the CDQ directed fishing allowance - 10 percent and second the ICA - 1,800 mt, is allocated to the Aleut Corporation for a directed pollock fishery. In the AI subarea, the A season is allocated 40 percent of the ABC and the B season is allocated the remainder of the directed pollock fishery.
²In the Bering Sea subarea, no more than 28 percent of each sector's annual DFA may be taken from the SCA before April 1. The remaining 12 percent of the annual DFA allocated to the A season may be taken outside of SCA before April 1 or inside the SCA after April 1. If 28 percent of the annual DFA is not taken inside the SCA before April 1, the remainder is available to be taken inside the SCA after April 1.
³Pursuant to § 679.20(a)(5)(i)(A)(4), not less than 8.5 percent of the DFA allocated to listed catcher/processors shall be available for harvest only by eligible catcher vessels delivering to listed catcher/processors.
⁴Pursuant to § 679.20(a)(5)(i)(A)(4)(iii), the AFA unlisted catcher/processors are limited to harvesting not more than 0.5 percent of the catcher/processors sector's allocation of pollock.
⁵Pursuant to § 679.20(a)(5)(i)(A)(6) NMFS establishes an excessive harvesting share limit equal to 17.5 percent of the sum of the pollock DFAs.
⁶Pursuant to § 679.20(a)(5)(i)(A)(7) NMFS establishes an excessive processing share limit equal to 30.0 percent of the sum of the pollock DFAs.
⁷The Bogoslof District is closed by the final harvest specifications to directed fishing for pollock. The amounts specified are for ICA only, and are not apportioned by season or sector.

TABLE 10—2006 AND 2007 BERING SEA SUBAREA INSHORE COOPERATIVE ALLOCATIONS
[Amounts are in metric tons]
Cooperative name and member vessels | Sum of member vessel's official catch histories¹ (mt) | Percentage of inshore sector allocation | 2006 Annual cooperative allocation (mt) | 2007 Annual cooperative allocation (mt)
Akutan Catcher Vessel Association |  | 31.145 | 204830 | 203,186
Arctic Enterprise Association |  | 1.146 | 7,535 | 7,476
Northern Victor Fleet Cooperative |  | 8.412 | 55,326 | 54,879
Peter Pan Fleet Cooperative |  | 2.876 | 18,916 | 18,763
Unalaska Cooperative |  | 12.191 | 80,173 | 79,533
UniSea Fleet Cooperative |  | 25.324 | 166,549 | 165,211
Westward Fleet Cooperative |  | 18.906 | 124,336 | 123,340
Open access AFA vessels |  | 0 | 0 | 0
Total inshore allocation | 875,572 | 100 | 657,666 | 652,388
¹According to regulations at § 679.62(e)(1), the individual catch history for each vessel is equal to the vessel's best 2 of 3 years inshore pollock landings from 1995 through 1997 and includes landings to catcher/processors for vessels that made 500 or more mt of landings to catcher/processors from 1995 through 1997.>

Classification

This action responds to the best available information recently obtained from the fishery. The Assistant Administrator for Fisheries, NOAA (AA), finds good cause to waive the requirement to provide prior notice and opportunity for public comment pursuant to the authority set forth at 5 U.S.C. 553(b)(B) as such requirement is impracticable and contrary to the public interest. This requirement is impracticable and contrary to the public interest as it would prevent NMFS from responding to the most recent fisheries data in a timely fashion and would delay the reallocation of Bering Sea and Aleutian Islands pollock. Since the pollock fishery is currently open, it is important to immediately inform the industry as to the final Bering Sea subarea pollock allocations. Immediate notification is necessary to allow for the orderly conduct and efficient operation of this fishery; allow the industry to plan for the fishing season and avoid potential disruption to the fishing fleet as well as processors; and provide opportunity to harvest increased B season pollock allocations while value is optimum.

The AA also finds good cause to waive the 30-day delay in the effective date of this action under 5 U.S.C. 553(d)(3). This finding is based upon the reasons provided above for waiver of prior notice and opportunity for public comment.

This action is required by § 679.20 and is exempt from review under Executive Order 12866.

Authority: 16 U.S.C. 1801 et seq.

Dated: August 15, 2006.
Alan D. Risenhoover,
Acting Director, Office of Sustainable Fisheries, National Marine Fisheries Service.

[FR Doc. 06-7052 Filed 8-16-06; 2:14 pm]

BILLING CODE 3510-22-S